DEPARTMENT OF LABOR

Employment and Training Administration

[TA-W-64,536]

Industrial Paint and Strip, Inc., Woodsfield, OH; Notice of Termination of Investigation

Pursuant to Section 221 of the Trade Act of 1974, as amended, an investigation was initiated on November 25, 2008 in response to a petition filed by a company official on behalf of workers of Industrial Paint and Strip, Inc., Woodsfield, Ohio.

The petitioner has requested that the petition be withdrawn. Consequently, the investigation has been terminated.

Signed at Washington, DC, this 15th day of January 2009.
Linda G. Poole,
Certifying Officer, Division of Trade Adjustment Assistance.

[FR Doc. E9-1496 Filed 1-23-09; 8:45 am]

BILLING CODE 4510-FN-P